DEPARTMENT OF THE INTERIOR

Bureau of Land Management

[15X.LLAZ920000.L71220000.EU0000.LVTFA1580000.241A; AZA-36768]

Notice of Realty Action: Non-Competitive (Direct Sale) and Conveyance of Public Land and Mineral Interests of Public Land in Maricopa and Pinal Counties, Arizona

AGENCY: Bureau of Land Management, Interior.

ACTION: Notice of realty action.

SUMMARY: The Bureau of Land Management (BLM) is proposing a noncompetitive (direct) sale of 3,180.35 acres of public land in Maricopa County, Arizona, and 200.64 acres of public land in Pinal County, Arizona, a total of 3,380.69 acres at no less than the appraised fair market value to the Gila River Indian Community (GRIC). The sale is subject to the provisions of Sections 203 and 209 of the Federal Land Policy and Management Act of 1976, as amended (FLPMA). Because disposal of these lands is restricted to Federal, State, local, and tribal governments and agencies, the publication of this notice represents a formal opportunity for any qualified purchasers to express interest in the subject lands. If interest in purchase, at fair market value, is indicated by another qualified party, the BLM will proceed with a modified competitive sale of the lands. If no qualified parties express interest, the BLM will proceed with a noncompetitive sale.

DATES: The BLM is seeking comments from the public and interested parties regarding the noncompetitive (direct) sale and comments must be received by the BLM within 45 days of the date this notice is published in the Federal Register. In addition to this opportunity to provide written comments, public meetings will be held in the vicinity of the sale within the 45-day comment period. These meetings will be announced by publication in local newspapers and other media outlets at least 2 weeks prior to being held.

ADDRESSES: Written comments concerning the noncompetitive (direct) sale should be sent to Edward J. Kender, Field Manager, BLM Lower Sonoran Field Office, Phoenix District Office, 21605 North 7th Avenue, Phoenix, AZ 85027.

FOR FURTHER INFORMATION CONTACT: Lane Cowger, Project Manager, Arizona State Office at 602-417-9612 or by email at lcowger@blm.gov or blm_az_azso_maricopalandsale@blm.gov. Persons who use a telecommunications device for the deaf (TDD) may call the Federal Relay Service (FRS) at 1-800-877-8339 to contact the above individual during normal business hours. The FRS is available 24 hours a day, 7 days a week to leave a message or question with the above individual. You will receive a reply during normal business hours.

SUPPLEMENTARY INFORMATION: The BLM has received a proposal from the GRIC to purchase the public lands described in this Notice at fair market value. The lands are located in Maricopa and Pinal Counties and are being considered for noncompetitive (direct) sale under the authority of Sections 203 and 209 of FLPMA (90 Stat. 2750, 43 U.S.C. 1713 and 1719), and the regulations at 43 CFR 2710 and 2720.

Gila and Salt River Meridian, Arizona

Maricopa County

T. 2 S., R. 1 W.,

Section 1, lots 1-4, S½NE¼, S½NW¼, SW¼, SE¼;

Section 2, lots 1-4, S½NE¼, S½NW¼, SW¼, SE¼;

Section 3, lots 1-4, S½NE¼, S½NW¼, SW¼, SE¼;

Section 11;

Section 12.

Pinal County

T. 5 S., R. 5 E.,

Section 16, lot 4;

Section 17, NE¼.

The areas described aggregate approximately 3,380.69 acres. The Sections noted above in T. 2 S., R. 1 W., are located in Maricopa County and are on the western border of the Gila River Indian Reservation. The Sections within the above T. 5 S., R. 5 E., are in Pinal County and lie along the Reservation's southern border. The lands surrounding the parcels are non-BLM lands, including lands owned by GRIC. Section 203 of FLPMA establishes the criteria under which a sale of public land is permitted. The sale is in conformance with the Lower Sonoran Record of Decision (ROD) and Resource Management Plan (RMP), approved on September 14, 2012. The parcels are identified for disposal in the RMP Record of Decision (LR-2.1.1). The RMP limits the disposal of these parcels to Federal, State, local, or tribal governmental entities. These governmental entities will be notified of the proposed sale to allow them the opportunity to express an interest in participating in a modified competitive sale.

Consistent with the RMP, the subsurface estate will be included in this sale, as no mineral values have been identified in the project environmental analysis. Regulations contained at 43 CFR 2711.3-3(a) provide for a noncompetitive (direct) sale when the public interest would best be served to protect existing equities. However, after the public comment period is over the BLM will determine whether or not to pursue a modified competitive sale, or proceed with the noncompetitive (direct) sale as described in this Notice.

The sale parcels will be analyzed in a site-specific Environmental Assessment (EA). In addition, other resource surveys and evaluations are currently being conducted and will be complete prior to BLM making a final decision on this proposed sale. The parcels are being offered in this Notice of Realty Action as a noncompetitive (direct sale) to protect cultural resources and archaeological sites within the parcels that are of cultural significance to the GRIC. These sites include plant, animal, raw material resources gathering areas, areas of cultural and religious significance, and trail systems and transportation routes with cultural and religious significance.

Pursuant to 43 CFR 2711.1-2(d) and upon publication of the notice in the Federal Register, the described lands will be segregated from all forms of appropriation under the public land laws, including the mining laws. Any subsequent applications for appropriation will not be accepted, will not be considered as filed, and will be returned to the applicant. The segregation will terminate upon issuance of a patent, publication in the Federal Register of a termination of the segregation, or 2 years from the date of the publication in the Federal Register, whichever occurs first, unless extended by the BLM Arizona State Director prior to the termination date.

In addition to the appraised fair market value, the purchaser will be required to pay a $50 nonrefundable filing fee for conveyance of the available mineral interests and the associated administrative costs.

The following terms and conditions will be accepted and reserved to the United States:

A right-of-way thereon for ditches or canals constructed by the authority of the United States, Act of August 30, 1890 (43 U.S.C. 945).

And will be subject to:

1. All valid existing rights.

2. Those rights for a water facility granted to Maricopa County Flood Control, its successors or assigns, by right-of-way No. AZA-26798, pursuant to the Act of October 21, 1976 (43 U.S. C. 1761).

3. Those rights for power line purposes granted to Tucson Electric Power Company, its successors or assigns, by right-of-way No. AZA-7274, pursuant to the Act of March 4, 1911 (43 U.S.C. 961).

4. Those rights for power line purposes granted to Tucson Electric Power Company, its successors or assigns, by right-of-way No. AZA-7872, pursuant to the Act of March 4, 1911 (43 U.S.C. 961).

Information concerning the sale, including a map delineating the noncompetitive direct sale parcels and, when available, the appraisal and mineral report will be available for public review during normal business hours at the BLM, Lower Sonoran Field Office, located at the above address. Once completed, the map and EA will be viewable at https://eplanning.blm.gov/epl-front-office/eplanning/nepa/nepa_register.do.

Public comments concerning the noncompetitive direct sale may be submitted in writing to the BLM Lower Sonoran Field Manager as noted in the above DATES and ADDRESSES sections. Any substantive comments regarding the noncompetitive (direct) sale will be reviewed by the BLM Lower Sonoran Field Manager or other authorized official of the Department of the Interior, who may sustain, vacate, or modify this realty action in whole or in part. Unless the BLM receives a substantive comment that causes the authorized official to vacate or modify this realty action, this notice will become the final determination of the Department of the Interior.

Before including your address, phone number, email address, or other personal identifying information in your comment, you should be advised that your entire comment, including your personal identifying information, may be made publicly available at any time. While you can ask us in your comment to withhold from public review your personal identifying information, we cannot guarantee that we will be able to do so.

Authority: 43 CFR 2711.1-2 and 2720.1-1(b)

Edward J. Kender,
Field Manager, Lower Sonoran Field Office.

[FR Doc. 2018-11451 Filed 5-25-18; 8:45 am]

BILLING CODE P